DEPARTMENT OF JUSTICE

Immigration and Naturalization Service

8 CFR Part 244

[INS No. 1972-99; A.G. Order No. 2397-2001]

RIN 1115-AF01

Temporary Protected Status: Amendments to the Requirements for Employment Authorization Fee, and Other Technical Amendments; Delay of Effective Date

AGENCY: Immigration and Naturalization Service, Department of Justice.

ACTION: Final rule; delay of effective date.

SUMMARY: In accordance with the memorandum of January 20, 2001, from Andrew H. Card, Jr., the Assistant to the President and Chief of Staff, entitled “Regulatory Review Plan” (memorandum), this rule temporarily delays for 60 days the effective date of the final rule entitled “Temporary Protected Status: Amendments to the Requirements for Employment Authorization Fee, and Other Technical Amendments,” published in the Federal Register on December 28, 2000, at 65 FR 82256. This temporary delay will allow the Department an opportunity for further consideration of this rule.

EFFECTIVE DATE: The effective date of the final rule published at 65 FR 82256, December 28, 2000, adopting an interim rule that amended 8 CFR Part 244, is delayed until March 30, 2001.

FOR FURTHER INFORMATION CONTACT: Kevin Jones, Deputy Assistant Attorney General, Office of Policy Development, U.S. Department of Justice, Washington, DC 20530, (202) 514-4604.

SUPPLEMENTARY INFORMATION: To the extent that 5 U.S.C. 553 applies, the Department's implementation of this rule effective upon publication in the Federal Register is based upon the “good cause” exception. This temporary delay in effective date will give Department officials the opportunity for further review and consideration of the earlier rule, consistent with the Memorandum of January 20, 2001, published in the Federal Register on January 24, 2001.

Dated: January 23, 2001.
Eric H. Holder, Jr.,
Acting Attorney General.

[FR Doc. 01-2412 Filed 1-25-01; 8:45 am]

BILLING CODE 4410-10-M